DEPARTMENT OF TRANSPORTATION

Federal Aviation Administration

14 CFR Part 39

[Docket No. FAA-2008-1240; Directorate Identifier 2008-NM-098-AD; Amendment 39-15877; AD 2009-08-04]

RIN 2120-AA64

Airworthiness Directives; Hawker Beechcraft Corporation Model BH.125 Series 600A Airplanes and Model HS.125 Series 700A Airplanes Modified in Accordance With Supplemental Type Certificate (STC) SA2271SW

AGENCY: Federal Aviation Administration (FAA), DOT.

ACTION: Final rule.

SUMMARY: We are adopting a new airworthiness directive (AD) for certain Hawker Beechcraft Corporation Model BH.125 series 600A airplanes and Model HS.125 series 700A airplanes. This AD requires inspecting the wiring diagrams containing the cockpit blowers and comparing with the current airplane configuration, and reworking the wiring if necessary. This AD results from a report indicating that a blower motor of the cockpit ventilation and avionics cooling system seized up and gave off smoke. We are issuing this AD to prevent smoke and fumes in the cockpit in the event that a blower motor seizes and overheats due to excessive current draw.

DATES: This AD is effective May 14, 2009.

The Director of the Federal Register approved the incorporation by reference of a certain publication listed in the AD as of May 14, 2009.

ADDRESSES: For service information identified in this AD, contact Hawker Beechcraft Corporation, Department 62, P.O. Box 85, Wichita, Kansas 67201-0085; telephone 316-676-8238; fax 316-676-6706; e-mail tmdc@hawkerbeechcraft.com; Internet https://www.hawkerbeechcraft.com/service_support/pubs.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Andy Shaw, Aerospace Engineer, Special Certification Office, ASW-190, FAA Southwest Regional Office, 2601 Meacham Boulevard, Fort Worth, Texas 76137; telephone (817) 222-5188; fax (817) 222-5785.

SUPPLEMENTARY INFORMATION:

Discussion

We issued a notice of proposed rulemaking (NPRM) to amend 14 CFR part 39 to include an airworthiness directive (AD) that would apply to certain Hawker Beechcraft Corporation Model BH.125 series 600A airplanes and Model HS.125 series 700A airplanes. That NPRM was published in the Federal Register on November 26, 2008 (73 FR 71959). That NPRM proposed to require inspecting the wiring diagrams containing the cockpit blowers and comparing with the current airplane configuration, and reworking the wiring if necessary.

Comments

We gave the public the opportunity to participate in developing this AD. We received no comments on the NPRM or on the determination of the cost to the public.

Explanation of Change to Final Rule

We have changed the product identification line to specify the airplane type certificate holder.

Conclusion

We reviewed the relevant data and determined that air safety and the public interest require adopting the AD with the change described previously. We also determined that this change will not increase the economic burden on any operator or increase the scope of the AD.

Costs of Compliance

We estimate that this AD affects 40 airplanes of U.S. registry. We also estimate that it takes about 1 work-hour per product to comply with this AD. The average labor rate is $80 per work-hour. Based on these figures, we estimate the cost of this AD to U.S. operators to be $3,200, or $80 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-08-04 Hawker Beechcraft Corporation (Formerly Raytheon Aircraft Company): Amendment 39-15877. Docket No. FAA-2008-1240; Directorate Identifier 2008-NM-098-AD.

Effective Date

(a) This airworthiness directive (AD) is effective May 14, 2009.

Affected ADs

(b) None.

Applicability

(c) This AD applies to Hawker Beechcraft Corporation Model BH.125 series 600A airplanes and Model HS.125 series 700A airplanes, certificated in any category; as identified in Hawker Beechcraft Mandatory Service Bulletin SB 24-3850, dated January 2008, which have been modified in accordance with Supplemental Type Certificate SA2271SW.

Unsafe Condition

(d) This AD results from a report indicating that a blower motor of the cockpit ventilation and avionics cooling system seized up and gave off smoke. We are issuing this AD to prevent smoke and fumes in the cockpit in the event that a blower motor seizes and overheats due to excessive current draw.

Compliance

(e) Comply with this AD within the compliance times specified, unless already done.

Inspection and Rework

(f) Within 600 flight hours or 6 months after the effective date of this AD, whichever occurs first, inspect the wiring diagrams containing the cockpit blowers and compare with the current airplane configuration, in accordance with the Accomplishment Instructions of Hawker Beechcraft Mandatory Service Bulletin SB 24-3850, dated January 2008; except as provided by paragraph (g) of this AD.

(1) If the current airplane configuration does not match the applicable cockpit blower wiring diagrams, before further flight, rework the wiring using a method approved by the Manager, Special Certification Office, ASW-190, Rotorcraft Directorate, FAA. For the determination to be approved by the Manager, Special Certification Office, as required by this paragraph, the Manager's approval letter must specifically refer to this AD.

(2) If the current airplane configuration matches the applicable cockpit blower wiring diagrams, before further flight, rework the wiring in accordance with the Accomplishment Instructions of Hawker Beechcraft Mandatory Service Bulletin SB 24-3850, dated January 2008.

No Submission of Certain Information

(g) Although Hawker Beechcraft Mandatory Service Bulletin SB 24-3850, dated January 2008, specifies to submit certain information to the manufacturer, this AD does not include that requirement.

Alternative Methods of Compliance (AMOCs)

(h)(1) The Manager, Special Certification Office, ASW-190, Rotorcraft Directorate, FAA, Attn: Andy Shaw, Aerospace Engineer, Special Certification Office, ASW-190, FAA, Southwest Regional Office, 2601 Meacham Boulevard, Fort Worth, Texas 76137; telephone (817) 222-5188; fax (817) 222-5785; has the authority to approve AMOCs for this AD, if requested using the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(i) You must use Hawker Beechcraft Mandatory Service Bulletin SB 24-3850, dated January 2008, to do the actions required by this AD, unless the AD specifies otherwise.

(1) For service information identified in this AD, contact Hawker Beechcraft Corporation, Department 62, P.O. Box 85, Wichita, Kansas 67201-0085; telephone 316-676-8238; fax 316-676-6706; e-mail tmdc@hawkerbeechcraft.com; Internet https://www.hawkerbeechcraft.com/service_support/pubs.

(2) You may review copies of the service information at the FAA, Transport Airplane Directorate, 1601 Lind Avenue, SW., Renton, Washington. For information on the availability of this material at the FAA, call 425-227-1221 or 425-227-1152.

(3) You may also review copies of the service information that is incorporated by reference at the National Archives and Records Administration (NARA). For information on the availability of this material at NARA, call 202-741-6030, or go to: http://www.archives.gov/federal_register/code_of_federal_regulations/ibr_locations.html.

Issued in Renton, Washington, on April 2, 2009.
Ali Bahrami,
Manager, Transport Airplane Directorate, Aircraft Certification Service.

[FR Doc. E9-8080 Filed 4-8-09; 8:45 am]

BILLING CODE 4910-13-P